DEPARTMENT OF JUSTICE

Notice of Lodging of Consent Decree Pursuant to Clean Air Act

Notice is hereby given that on February 27, 2007, a proposed consent decree in United States v. E.I. DuPont de Nemours & Co., Inc.,Civil Action No. 07-930 (JBS), was lodged with the United States District Court for the District of New Jersey.

The proposed consent decree will settle the United States' claims for violation of the Clean Air Act, 42 U.S.C. 7412 and 7413, at the DuPont Environmental Treatment, Chambers Works (“DET”), located in Deepwater, New Jersey. Pursuant to the proposed consent decree, E.I. DuPont de Nemours & Co., Inc., will pay $322,000 as civil penalty for such violations and prepare and submit reports with respect to future activities at the DET.

The Department of Justice will receive for a period of thirty (30) days from the date of this publication comments relating to the proposed consent decree. Comments should be addressed to the Assistant Attorney General of the Environment and Natural Resources Division, and either e-mailed to pubcomment-ees.enrd@usdoj.gov or mailed to P.O. Box 7611, U.S. Department of Justice, Washington, DC 20044-7611, and should refer to United States v. E.I. DuPont de Nemours & Co., Inc., Civil Action No. 07-930 (JBS), D.J. Ref. 90-5-2-1-08003.

The proposed consent decree may also be examined at the Office of the United States Attorney, District of New Jersey, 970 Broad Street, Suite 700, Newark, New Jersey, and at U.S. EPA Region 2, 290 Broadway, New York, New York. During the public comment period, the proposed consent decree may also be examined on the following Department of Justice Web site, http://www.usdoj.gov/enrd/Consent_Decrees.html.

A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed consent decree (without attachments), please so note and enclose a check in the amount of $4.75 (25 cent per page reproduction cost) payable to the U.S. Treasury or if by e-mail or fax, forward a check in that amount to the Consent Decree Library at the stated address.

Ronald Gluck,
Assistant Chief, Environmental Enforcement Section, Environment and Natural Resources Division.

[FR Doc. 07-1203 Filed 3-14-07; 8:45 am]

BILLING CODE 4410-15-M